DEPARTMENT OF COMMERCE

International Trade Administration

[A-552-802]

Certain Frozen Warmwater Shrimp From the Socialist Republic of Vietnam: Amended Final Results and Final Partial Rescission of Antidumping Duty Administrative Review

AGENCY: Import Administration, International Trade Administration, Department of Commerce.

SUMMARY: On September 12, 2011, the Department of Commerce (“Department”) published in the Federal Register the final results of the fifth administrative review of the antidumping duty order on certain frozen warmwater shrimp (“shrimp”) from the Socialist Republic of Vietnam (“Vietnam”).¹ The period of review (“POR”) is February 1, 2009, through January 31, 2010. We are amending the Final Results to correct certain ministerial errors.

¹ See Certain Frozen Warmwater Shrimp From the Socialist Republic of Vietnam: Final Results and Final Partial Rescission of Antidumping Duty Administrative Review, 76 FR 56158 (September 12, 2011) (“Final Results”).

DATES: October 18, 2011.

FOR FURTHER INFORMATION CONTACT: Susan Pulongbarit or Paul Walker, AD/CVD Operations, Office 9, Import Administration, International Trade Administration, U.S. Department of Commerce, 14th Street and Constitution Avenue, NW., Washington, DC 20230; telephone: (202) 482-4013 or (202) 482-0413, respectively.

SUPPLEMENTARY INFORMATION:

Background

The Department's regulations at 19 CFR 351.224(c)(2) state that a party to an antidumping duty proceeding must file comments concerning ministerial errors within five days after the earlier of the date on which the Secretary released disclosure documents to that party or held a disclosure meeting with that party. On September 13, and September 14, 2011, the Department received timely ministerial error allegations from Camimex, Minh Phu Seafood Corporation (and its affiliates Minh Qui Seafood Co., Ltd., and Minh Phat Seafood Co., Ltd.) (collectively “the Minh Phu Group”), and Viet Foods Co., Ltd. (“Viet Foods”) and its branch Nam Hai Foodstuff Export Company Ltd. (collectively, “Respondents”). No other party in this proceeding submitted comments on the Department's final margin calculations. Based upon the Department's analysis of the comments and allegations of ministerial errors, the Department has made changes to the margin calculation for Camimex and the Minh Phu Group. The Department also has clarified that in its rescission of Viet Foods in the Final Results, the Department inadvertently referred to the company as Viet Hai Foods. Furthermore, as a result of correcting the error in the margin calculation for Camimex, the margins for the companies granted separate rate status were also revised because the margins for those companies were derived from Camimex's and the Minh Phu Group's margins.

Scope of the Order

The scope of the order includes certain warmwater shrimp and prawns, whether frozen, wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations (including dusted shrimp), which are not “prepared meals,” that contain more than 20 percent by weight of shrimp or prawn are also included in the scope of the order.

Excluded from the scope are: (1) Breaded shrimp and prawns (HTS subheading 1605.20.1020); (2) shrimp and prawns generally classified in the Pandalidae family and commonly referred to as coldwater shrimp, in any state of processing; (3) fresh shrimp and prawns whether shell-on or peeled (HTS subheadings 0306.23.0020 and 0306.23.0040); (4) shrimp and prawns in prepared meals (HTS subheading 1605.20.0510); (5) dried shrimp and prawns; (6) canned warmwater shrimp and prawns (HTS subheading 1605.20.1040); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

The products covered by the order are currently classified under the following HTS subheadings: 0306.13.0003, 0306.13.0006, 0306.13.0009, 0306.13.0012, 0306.13.0015, 0306.13.0018, 0306.13.0021, 0306.13.0024, 0306.13.0027, 0306.13.0040, 1605.20.1010, and 1605.20.1030. These HTS subheadings are provided for convenience and for customs purposes only and are not dispositive, but rather the written description of the scope of the order is dispositive.

Amended Final Results of the Review

The Act defines “ministerial error” as including “errors in addition, subtraction, or other arithmetic function, clerical errors resulting from inaccurate copying, duplication, or the like, and any other type of unintentional error which the administering authority considers ministerial.” See section 751(h) of the Act. After analyzing Respondents' comments, we have determined, in accordance with section 751(h) of the Act and 19 CFR 351.224(e), that we made certain ministerial errors in our calculations for the final results with respect to Camimex's and the Minh Phu Group's margin calculations and inadvertently referred to Viet Foods as Viet Hai Foods. For a detailed discussion of these ministerial errors, as well as the Department's analysis of these errors, see Memorandum to James C. Doyle, through Scot T. Fullerton, from Susan Pulongbarit, regarding “Fifth Antidumping Administrative Review of Frozen Warmwater Shrimp From the Socialist Republic of Vietnam: Ministerial Error Memorandum,” dated concurrently with this notice (“Ministerial Errors Memo”).

Because we have revised the rate for Camimex, we are also revising the margin for the companies granted separate-rate status because the margin for those companies was calculated as the weighted average of Camimex's and the Minh Phu Group's margins. In accordance with section 751(h) of the Act, we are amending the final results of the fifth administrative review of certain warmwater shrimp from Vietnam. As a result of correcting the ministerial errors discussed above, we determine that the following dumping margins exist for the period February 1, 2009, through January 30, 2010:

Exporter | Amended final margin (percent)
Camau Frozen Seafood Processing Import Export Corporation (“CAMIMEX”) aka
Camimex aka
Camau Seafood Factory No. 4 aka
Camau Seafood Factory No. 5 aka
Camau Frozen Seafood Processing Import & Export aka
Camau Frozen Seafood Processing Import Export Corp. (CAMIMEX-FAC 25) aka
Frozen Factory No. 4 aka
Camau Frozen Seafood Processing Import Export Corporation | 0.80
Minh Phu Group:
Minh Phat Seafood Co., Ltd. aka
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd. aka
Minh Phu Seafood Pte aka
Minh Phat aka
Minh Qui | 1.15
Nha Trang Seafoods Group:
Nha Trang Seaproduct Company (“Nha Trang Seafoods”) aka
Nha Trang Seaproduct Company
Nha Trang Seafoods aka
Nha Trang Seaproduct Company Nha Trang Seafoods aka
NT Seafoods Corporation (“NT Seafoods”) aka
Nha Trang Seafoods—F.89 Joint Stock Company (“Nha Trang Seafoods—F.89”) aka
NTSF Seafoods Joint Stock Company (“NTSF Seafoods”) | de minimis
Amanda Foods (Vietnam) Limited (“Amanda Foods”) | 1.03
Bac Lieu Fisheries Joint Stock Company aka
Bac Lieu Fisheries Company Limited (“Bac Lieu”) aka
Bac Lieu Fisheries Company Limited aka
Bac Lieu Fisheries Limited Company aka
Bac Lieu Fisheries Company Limited aka
Bac Lieu Fis aka
Bac Lieu Co. Ltd. aka
Bac Lieu Fisheries aka
Bac Lieu Fisheries Co. Ltd. | 1.03
C.P. Vietnam Livestock Company Limited aka
C.P. Vietnam Livestock Corporation (“C.P. Vietnam”) aka
C.P. Vietnam Livestock Corporation aka
C.P. Vietnam Livestock Co. Ltd. aka
CP Livestock | 1.03
Cadovimex Seafood Import-Export and Processing Joint Stock Company (“CADOVIMEX-VIETNAM”) aka
Cadovimex-Vietnam aka
Cai Doi Vam Seafood Import-Export Company (“Cadovimex”) aka
Cai Doi Vam Seafood Import-Export Company (Cadovimex) aka
Cai Doi Vam Seafood aka
Cai Doi Vam Seafood Im-Ex Company (Cadovimex) aka
Cai Doi Vam Seafood Processing Factory aka
Caidoivam Seafood Company (Cadovimex) aka
Caidoivam Seafood Im-Ex Co. aka
Cadovimex Seafood Import-Export and Processing Joint Stock Company aka
Cai Doi Vam Seafood Import-Export Company aka
Cadovimex | 1.03
Cafatex Fishery Joint Stock Corporation (“Cafatex Corp.”) aka
Cafatex Fishery Joint Stock Corporation (“CAFATEX CORP.”) aka
Cantho Animal Fisheries Product Processing Export Enterprise (Cafatex) aka
Cafatex aka
Cafatex Vietnam aka
Xi Nghiep Che Bien Thuy Suc San Xuat Kau Cantho aka
Cas aka
Cas Branch aka
Cafatex Saigon aka
Cafatex Fishery Joint Stock Corporation aka
Cafatex Corporation aka
Taydo Seafood Enterprise aka
Cafatex Corp. aka
Cafatex Corporation | 1.03
Cam Ranh Seafoods Processing Enterprise Pte aka
Cam Ranh Seafoods Processing Enterprise Company (“Camranh Seafoods”) aka
Camranh Seafoods aka
Branch of Camranh Seafoods Processing Enterprise Pte—Quang Ninh Seaproduct Factory aka
Quang Ninh Seaproduct Factory (Camranh Seafoods' Branch) | 1.03
CATACO Sole Member Limited Liability Company
Can Tho Agricultural and Animal Products Import Export Company (“CATACO”) aka
Can Tho Agricultural and Animal Product Import Export Company (“CATACO”) aka
Can Tho Agricultural Products aka
CATACO aka
Can Tho Agricultural and Animal Products Imex Company | 1.03
Can Tho Import Export Fishery Limited Company (“CAFISH”) | 1.03
Coastal Fishery Development aka
Coastal Fisheries Development Corporation (“Cofidec”) aka
Coastal Fisheries Development Corporation (Cofidec) aka
COFIDEC aka
Coastal Fisheries Development Corporation aka
Coastal Fisheries Development Co. aka
Coastal Fisheries Development Corp. | 1.03
Cuulong Seaproducts Company (“Cuu Long Seapro”) aka
Cuu Long Seaproducts Limited (“Cuulong Seapro”) aka
Cuulong Seapro aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company aka
Cuulong Seaproducts Company | 1.03
Danang Sea Products Import Export Corporation aka
Danang Seaproducts Import Export Corporation (“Seaprodex Danang”) aka
Danang Seaproducts Import Export Corporation aka
Danang Seaproduct Import-Export Corporation aka
Danang Seaproducts Import Export aka
Tho Quang Seafood Processing & Export Company aka
Seaprodex Danang aka
Tho Quang Seafood Processing and Export Company aka
Tho Quang aka
Tho Quang Co. | 1.03
Grobest & I-Mei Industrial Vietnam aka
Grobest aka
Grobest & I-Mei Industrial (Vietnam) Co., Ltd. aka
Grobest & I-Mei Industrial (Vietnam) Co., Ltd. (“Grobest”) aka
Grobest & I-Mei Industry Vietnam | 1.03
Investment Commerce Fisheries Corporation (“Incomfish”) aka
Incomfish aka
Investment Commerce Fisheries Corp. aka
Incomfish Corp. aka
Incomfish Corporation aka
Investment Commerce Fisheries aka
Investment Commerce Fisheries Corporation aka
Incomfish Corporation | 1.03
Kim Anh Company Limited (“Kim Anh”) | 1.03
Minh Hai Export Frozen Seafood Processing Joint Stock Company aka
Minh Hai Jostoco aka
Minh Hai Export Frozen Seafood Processing Joint-Stock Company (“Minh Hai Jostoco”) aka
Minh Hai Export Frozen Seafood Processing Joint Stock Company (“Minh Hai Jostoco”) aka
Minh Hai Export Frozen Seafood Processing Joint-Stock Company aka
Minh Hai Joint Stock Seafood Processing Joint-Stock Company aka
Minh Hai Export Frozen Seafood Processing Joint-Stock Co., aka
Minh-Hai Export Frozen Seafood Processing Joint-Stock Company | 1.03
Minh Hai Joint-Stock Seafoods Processing Company (“Seaprodex Minh Hai”) aka
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai | 1.03
Minh Hai Sea Products Import Export Company (“Seaprimex Co”) aka
Minh Hai Sea Products Import Export Company (Seaprimex Co) aka
Ca Mau Seafood Joint Stock Company (“SEAPRIMEXCO”) aka
Seaprimexco Vietnam aka
Seaprimexco aka
Ca Mau Seafood Joint Stock Company (“Seaprimexco”) aka
Minh Hai Seaproducts Import Export Corporation aka
Seaprimexco aka
Minh Hai Seaproducts Co Ltd. (Seaprimexco) aka
Ca Mau Seafood Joint Stock Company (“Seaprimexco Vietnam”) | 1.03
Ngoc Sinh Private Enterprise aka
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise) | 1.03
Nhat Duc Co., Ltd. aka
Nhat Duc Co., Ltd. (“Nhat Duc”) | 1.03
Nha Trang Fisheries Joint Stock Company (“Nha Trang Fisco”) aka
Nha Trang Fisheries Joint Stock Company aka
Nhatrang Fisheries Joint Stock Company aka
Nha Trang Fisco aka
Nhatrang Fisco aka
Nha Trang Fisheries, Joint Stock aka
Nha Trang Fisheries Joint Stock Company (Nha Trang Fisco) | 1.03
Phu Cuong Jostoco Seafood Corporation aka
Phu Cuong Seafood Processing and Import-Export Co., Ltd. aka
Phu Cuong Seafood Processing and Import Export Company Limited aka
Phu Cuong Jostoco Corp. | 1.03
Phuong Nam Co., Ltd. (“Phuong Nam”) aka
Western Seafood Processing and Exporting Factory (“Western Seafood”) aka
Phuong Nam Foodstuff Corp. aka
Phuong Nam Co. Ltd. | 1.03
Sao Ta Foods Joint Stock Company (“Fimex VN”) aka
Sao Ta Foods Joint Stock Company aka
Fimex VN aka
Sao Ta Seafood Factory aka
Saota Seafood Factory | 1.03
Soc Trang Aquatic Products and General Import Export Company (“Stapimex”) aka
Soc Trang Seafood Joint Stock Company (“Stapimex”) aka
Soc Trang Seafood Joint Stock Company aka
Soc Trang Aquatic Products and General Import Export Company aka
Stapimex aka
Soc Trang Aquatic Products and General Import Export Company-(Stapimex) aka
Stapimex Soc Trans Aquatic Products and General Import Export Company aka
Stapmex | 1.03
Thuan Phuoc Seafoods and Trading Corporation aka
Thuan Phuoc aka
Frozen Seafoods Factory No. 32 aka
Frozen Seafoods Fty aka
Seafoods and Foodstuff Factory aka
My Son Seafoods Factory aka
Seafoods and Foodstuff Factory Vietnam | 1.03
UTXI Aquatic Products Processing Company aka
UT XI Aquatic Products Processing Company aka
UT-XI Aquatic Products Processing Company aka
UTXI aka
UTXI Co. Ltd. aka
Khanh Loi Seafood Factory aka
Hoang Phuong Seafood Factory aka
UTXI Aquatic Products Processing Corporation (“UTXICO”) aka
UTXI Aquatic Products Processing Corporation aka
UTXICO | 1.03
Viet Hai Seafood Co., Ltd. aka
Vietnam Fish One Co., Ltd. (“Fish One”) aka
Viet Hai Seafoods Company Ltd. (“Vietnam Fish One Co. Ltd.”) | 1.03
Vietnam-wide Entity | 25.76

Assessment

Pursuant to section 751(a)(2)(A) of the Act and 19 CFR 351.212(b), the Department shall determine, and U.S. Customs and Border Protection (“CBP”) shall assess, antidumping duties on all appropriate entries. The Department intends to issue assessment instructions to CBP that are related to the amended final results 15 days after the date of publication of the amended final results of review.

Cash Deposit Requirements

Cash deposit requirements related to the amended final results will be effective retroactively for all shipments of the subject merchandise entered, or withdrawn from warehouse, for consumption on or after the publication date of the Final Results, as provided for by section 751(a)(2)(C) of the Act. The cash deposit rate for companies whose rate was corrected by the amended final results will be the corrected rate for that company noted above. For all Vietnamese exporters of subject merchandise which have not been found to be entitled to a separate rate, the cash deposit rate will be the Vietnam-wide rate of 25.76 percent. For all non-Vietnamese exporters of subject merchandise which have not received their own rate, the cash deposit rate will be the rate applicable to the Vietnamese exporters that supplied that non-Vietnamese exporter. These deposit requirements shall remain in effect until further notice.

These amended final results are published in accordance with sections 751(h) and 777(i)(1) of the Act.

Dated: October 11, 2011.
Ronald K. Lorentzen,
Deputy Assistant Secretary for Import Administration.

[FR Doc. 2011-26935 Filed 10-17-11; 8:45 am]

BILLING CODE 3510-DS-P